DEPARTMENT OF HEALTH AND HUMAN SERVICES

Centers for Disease Control and Prevention

[60Day-21-21HU; Docket No. CDC-2021-0093]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled HIV Prevention Capacity Development Needs Assessments of Federally funded Health Departments and Community-Based Organizations. This data collection seeks to understand the training and technical assistance needs of federally funded health departments and community-based organizations by improving the performance of the HIV prevention workforce.

DATES: CDC must receive written comments on or before November 8, 2021.

ADDRESSES: You may submit comments, identified by Docket No. CDC-2021-0093 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

HIV Prevention Capacity Development Needs Assessments of Federally funded Health Departments and Community-Based Organizations—New—National Center for HIV/AIDS, Viral Hepatitis, STD, and TB Prevention (NCHHSTP), Centers for Disease Control and Prevention (CDC).

Background and Brief Description

In 2019, the President announced a federal effort to end the HIV epidemic in the U.S. by 2030. To achieve the Ending the HIV Epidemic in the U.S. (EHE) initiative's goal, (i.e., reducing new HIV infections by 90%), the HIV workforce must have the skills and knowledge to implement HIV prevention programs and surveillance activities as quickly and efficiently as possible. As such, the trainings and technical assistance (TA) activities that build the skills and knowledge of the HIV workforce will need to take place in a timely and efficient manner. This data collection request will improve both timeliness and efficiency in meeting directly funded agencies' needs. The information collected from the needs assessments proposed in this study will be used by CDC staff to determine the training and TA needs of health departments and community-based organizations funded by CDC to conduct HIV prevention and surveillance activities. One representative from each funded agency will be asked to voluntarily complete the needs assessment on behalf of their agency. Training and TA needs data will be collected during a specific three- to four-week period, and only one response per agency is being requested. The collection of this information will be used to improve on past performance whereby funded agencies needs were assessed, and addressed, agency by agency, over an extended period of time, resulting in needs being met inefficiently.

The training and TA needs assessment data will be collected through an online survey. The survey will be completed through an existing system, the Capacity Building Assistance (CBA) Tracking System (CTS). CTS is the system through which CDC funded agencies currently request trainings and TA activities. As such, directly funded agencies have been trained, and are familiar with the system in terms of how to access and navigate the system, which should help reduce their burden in providing CDC the requested information, as they are already familiar with CTS. In addition, CTS will automate reporting of the data collected. Automation of the data reporting will allow the CDC to aggregate responses across agencies efficiently.

Training and TA needs assessment data will be directly reported to the CDC. CDC staff will combine agency responses to determine how many funded agencies need specific trainings and specific TA activities. Combining the agencies data will allow the CDC to meet the reported needs in a more timely and efficient manner. Understanding how many agencies need specific trainings and TA activities will allow the CDC to host fewer trainings and TA activities across agencies, given the CDC will understand the needs at the same time, and can coordinate trainings and TA activities as a result of this data collection. In addition, the CDC will also be able to prioritize the most requested trainings and TA activities so they can offer the most requested training and TA activity first, moving from most requested to least requested.

The data collected will be stored behind the CDC's firewall, and any private information collected, such as the name of the respondent, the name of the agency they work for, and their professional contact information will be provided only to the agencies that conduct training and TA on behalf of the CDC, and in accordance with the data privacy rules these agencies operate. CDC requests OMB approval for an estimated 51 annual burden hours. There are no other costs to respondents other than their time.

Estimated Annualized Burden Hours
Respondent type | Form name | Number of participants | Number of responses per participant | Average burden per response (in hours) | Total burden (in hours)
Community-based Organization Representatives-Adults | Community-based Organization Needs Assessment | 130 | 1 | 15/60 | 33
Health Department Representatives-Adults | Health Department Needs Assessment | 70 | 1 | 15/60 | 18
Total |  |  |  |  | 51

Jeffrey M. Zirger,
Lead, Information Collection Review Office, Office of Scientific Integrity, Office of Science, Centers for Disease Control and Prevention.

[FR Doc. 2021-19161 Filed 9-3-21; 8:45 am]

BILLING CODE 4163-18-P